DEPARTMENT OF THE INTERIOR

Bureau of Land Management

[ID-200-1120-PH]

Notice of November Resource Advisory Council Meeting To Be Held in Twin Falls District, ID

AGENCY: Bureau of Land Management, Interior.

SUMMARY: This notice announces the intent to hold a Resource Advisory Council (RAC) meeting in the Twin Falls District of Idaho on Tuesday, November 28, 2006. The meeting will be held at the Red Lion Canyon Springs Hotel, 1357 Blue Lakes Boulevard, in Twin Falls, Idaho.

SUPPLEMENTARY INFORMATION: The Twin Falls District Resource Advisory Council consists of the standard fifteen members residing throughout south central Idaho. Meeting agenda items will include updates on sub-committee efforts, welcome to new members, continued prioritization of tasks for the upcoming year and more.

FOR FURTHER INFORMATION CONTACT: Sky Buffat, Twin Falls District, Idaho, 400 West F Street, Shoshone, Idaho, 83352, (208) 732-7307.

Dated: October 2, 2006.
Howard Hedrick,
Twin Falls District Manager.

[FR Doc. E6-17008 Filed 10-12-06; 8:45 am]

BILLING CODE 4310-GG-P